COMMISSION ON CIVIL RIGHTS

Agenda and Notice of Public Meeting of the Kentucky Advisory Committee

Notice is hereby given, pursuant to the provisions of the rules and regulations of the U.S. Commission on Civil Rights (Commission), and the Federal Advisory Committee Act (FACA), that a planning meeting with briefing of the Kentucky Advisory Committee to the Commission will convene at 1 p.m. and adjourn at 5 p.m. on Tuesday, May 8, 2007 at the University Club, University of Louisville, Louisville, Kentucky. The purpose of the meeting is to receive a briefing on religious freedom for prisoners and a briefing on school desegregation in Kentucky and discuss plans for a project for the fiscal year.

Members of the public are entitled to submit written comments; the comments must be received in the Southern Regional Office by June 8, 2007. The address is 61 Forsyth Street, SW., Suite 18T40, Atlanta, Georgia 30303. Persons wishing to e-mail their comments, or to present their comments verbally at the meeting, or who desire additional information should contact Peter Minarik, Ph.D., Regional Director, Southern Regional Office, U.S. Commission on Civil Rights at (404) 562-7000 [TDY 202-376-8116], or by e-mail at pminarik@usccr.gov.

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, April 18, 2007.
Ivy Davis,
Acting Chief, Regional Programs Coordination Unit.

[FR Doc. E7-7698 Filed 4-23-07; 8:45 am]

BILLING CODE 6335-02-P